DEPARTMENT OF EDUCATION

[CFDA No. 84.031A]

Strengthening Institutions Program

AGENCY: Office of Postsecondary Education, Department of Education.

ACTION: Notice of intent to fund down the grant slate for the Strengthening Institutions Program.

SUMMARY: The Secretary intends to use the grant slate developed for the Strengthening Institutions Program in Fiscal Year (FY) 2006 to make new grant awards in FY 2007. The Secretary takes this action because a significant number of high-quality applications remain on last year's grant slate. The actual level of funding for the FY 2007 program, if any, depends on final Congressional action.

FOR FURTHER INFORMATION CONTACT: Dr. Maria E. Carrington, U.S. Department of Education, 1990 K Street, NW., 6th Floor, Washington, DC 20006-6450. Telephone: (202) 502-7548 or via Internet: maria.carrington@ed.gov

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Background

On May 19, 2006, we published a notice in the Federal Register (71 FR 29130) inviting applications for new awards under the Strengthening Institutions Program.

We received a significant number of applications for grants under the Strengthening Institutions Program in FY 2006 and made 34 new grants. Because such a large number of high-quality applications were received, many applications that were awarded high scores by peer reviewers did not receive funding for FY 2006.

Limited funding is available for new awards under this program in FY 2007. To conserve funding that would have been required for a peer review of new grant applications and use those funds to support grant activities, we will select grantees in FY 2007 from the existing slate of applicants. This slate was developed during the FY 2006 competition using the selection criteria, application requirements, and definitions referenced in the May 19, 2006 notice. No changes to the selection criteria, application requirements, and definitions will be required by this action.

Note: All non-funded applicants scoring 95 and above in the FY 2006 competition MUST apply for Title III eligibility. Final funding decisions will be made based upon the amount available for new awards. As announced in a notice published in the Federal Register on January 8, 2007(71 FR 760) the closing date for Title III eligibility submissions is March 9, 2007.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 1057-1059d.

Dated: January 24, 2007.
James F. Manning,
Delegated the Authority of Assistant Secretary for Postsecondary Education.

[FR Doc. E7-1352 Filed 1-26-07; 8:45 am]

BILLING CODE 4000-01-P